SMALL BUSINESS ADMINISTRATION

[Disaster Declaration #17039 and #17040; Michigan Disaster Number MI-00099]

Presidential Declaration Amendment of a Major Disaster for the State of Michigan

AGENCY: U.S. Small Business Administration.

ACTION: Amendment 1.

SUMMARY: This is an amendment of the Presidential declaration of a major disaster for the State of Michigan (FEMA-4607-DR), dated 07/15/2021.

Incident: Severe Storms, Flooding, and Tornadoes.

Incident Period: 06/25/2021 through 06/26/2021.

DATES: Issued on 09/04/2021.

Physical Loan Application Deadline Date: 10/13/2021.

Economic Injury (EIDL) Loan Application Deadline Date: 04/15/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of MICHIGAN, dated 07/15/2021, is hereby amended to extend the deadline for filing applications for physical damages as a result of this disaster to 10/13/2021.

All other information in the original declaration remains unchanged.

(Catalog of Federal Domestic Assistance Number 59008)

James Rivera,
Associate Administrator for Disaster Assistance.

[FR Doc. 2021-19868 Filed 9-14-21; 8:45 am]

BILLING CODE 8026-03-P